DEPARTMENT OF THE INTERIOR

National Park Service

[NPS-WASO-NRNHL-1211-9092; 2200-3200-665]

National Register of Historic Places; Notification of Pending Nominations and Related Actions

Nominations for the following properties being considered for listing or related actions in the National Register were received by the National Park Service before December 10, 2011. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington DC 20005; or by fax, (202) 371-6447. Written or faxed comments should be submitted by January 20, 2012. Before including your address, phone number, email address, or other personal identifying information in your comment, you should be aware that your entire comment—including your personal identifying information—may be made publicly available at any time. While you can ask us in your comment to withhold your personal identifying information from public review, we cannot guarantee that we will be able to do so.

J. Paul Loether,
Chief, National Register of Historic Places, National Historic Landmarks Program.

FLORIDA

Miami-Dade County

Bryan, William Jennings, House, 3115 Brickell Ave., Miami, 11001029

ILLINOIS

Winnebago County

Garrison—Coronado—Haskill Historic District, Roughly bounded by Salem, Summer, Main, Court, Whitman & Winnebago Sts., & Fisher, Ridge, & North Aves., Rockford, 11001030

KANSAS

Cowley County

Winfield National Bank Building, 901 Main St., Winfield, 11001031

Marion County

Peabody City Park (New Deal-Era Resources of Kansas MPS), W. 2nd & Locust Sts., Peabody, 11001032

Riley County

Rocky Ford School (Public Schools of Kansas MPS), 1669 Barnes Rd., Manhattan, 11001033

Shawnee County

ATSF Motive Power Building, 1001 NE. Atchison, Topeka, 11001034

Church of the Holy Name, 1110 SW. 10th Ave., Topeka, 11001035

Harmon, John C., House, 915 SW. Buchanan, Topeka, 11001036

Wyandotte County

Kansas City, Kansas High School Gymnasium and Laboratory, (Public Schools of Kansas MPS), 1017 N. 9th St., Kansas City, 11001038

Mann, Horace, Elementary School (Public Schools of Kansas MPS), 824 State Ave., Kansas City, 11001037

MINNESOTA

Hennepin County

Buzza Company Building, 1006 W. Lake St., Minneapolis, 11001039

St. Louis County

Engine House No. 1, 101 E. 3rd St., Duluth, 11001040

NEW JERSEY

Ocean County

Bartlett—Rockhill—Bartlett House, Bartlett Ln., Tuckerton, 11001041

NORTH CAROLINA

Edgecombe County

Lincoln Park Historic District, 800 blk. Ellison Dr., 800-900 & 1000-1002 Leggett Rd. & 800 Carver Pl., Rocky Mount, 11001042

SOUTH CAROLINA

Marlboro County

McLaurin—Roper—McColl Farmstead, 1104 Laurin Willis Rd., Clio, 11001043

UTAH

Wayne County

Horseshoe Canyon Archeological District (Boundary Increase), Horseshoe Canyon Detached Unit, Canyonlands NP., Hanksville, 11001044

WISCONSIN

Clark County

Tufts, William B. and Jennie, House, 321 E. 4th St., Neillsville, 11001045

[FR Doc. 2011-33790 Filed 1-4-12; 8:45 am]

BILLING CODE 4312-51-P